DEPARTMENT OF DEFENSE

Department of the Army

Availability for Non-Exclusive, Exclusive, or Partially Exclusive Licensing of U.S. Patent Application Concerning a Rapid Method to Make OP Detoxifying Sponges Composed of Multiple Immobilized Enzymes of Cholinesterases and OP Hydrolases and Oximes as Reactivators

AGENCY: U.S. Army Medical Research and Materiel Command, DoD.

ACTION: Notice.

SUMMARY: In accordance with 37 CFR 404.6, announcement is made of the availability for licensing of U.S. Patent Application No. 09/558,512 entitled “A Rapid Method to Make OP Detoxifying Sponges Composed of Multiple Immobilized Enzymes of Cholinesterases and OP Hydrolases and Oximes as Reactivators” filed April 26, 2000. Foreign rights are also available (PCT/US00/11070). This patent has been assigned to the United States Government as represented by the Secretary of the Army.

ADDRESSES: Commander, U.S. Army Medical Research and Materiel Command, ATTN: Command Judge Advocate, MCMR-JA, 504 Scott Street, Fort Detrick, Frederick, Maryland 21702-5012.

FOR FURTHER INFORMATION CONTACT: For patent issues, Ms. Elizabeth Arwine, Patent Attorney, (301) 619-7808. For licensing issues, Dr. Paul Mele, Office of Research & Technology Assessment, (301) 619-6664. Both at telefax (301) 619-5034.

SUPPLEMENTARY INFORMATION: A material comprising a porous support and a plurality of enzymes for the removal, decontamination or neutralization of hazardous chemicals such as OP compounds is disclosed. The material may be used on a variety of surfaces, including natural, synthetic, and biological surfaces such as skin and other delicate membranes. Also disclosed is a process of making the material, kits and various methods and reactivation devices for reactivating the enzymatic activity of the material.

Luz D. Ortiz,
Army Federal Register Liaison Officer.

[FR Doc. 01-18009 Filed 7-18-01; 8:45 am]

BILLING CODE 3710-08-M